COMMITTEE FOR THE IMPLEMENTATION OF TEXTILE AGREEMENTS

Removal of Export Visa and ELVIS Requirements for Certain Cotton, Wool, and Man-Made Fiber Socks in Category 432 and 632 Part Produced or Manufactured in the People's Republic of China

November 18, 2004.

AGENCY: Committee for the Implementation of Textile Agreements (CITA).

ACTION: Issuing a directive to the Commissioner, Bureau of Customs and Border Protection removing visa and ELVIS requirements.

EFFECTIVE DATE: November 24, 2004.

FOR FURTHER INFORMATION CONTACT: Ross Arnold, International Trade Specialist, Office of Textiles and Apparel, U.S. Department of Commerce, (202) 482-4212. For information on the quota status of these limits, refer to the Bureau of Customs and Border Protection website (http://www.cbp.gov), or call (202) 344-2650. For information on embargoes and quota re-openings, refer to the Office of Textiles and Apparel website at http://otexa.ita.doc.gov.

SUPPLEMENTARY INFORMATION:

Authority: Section 204 of the Agricultural Act of 1956, as amended (7 U.S.C. 1854); Executive Order 11651 of March 3, 1972, as amended.

On October 29, 2004, as provided for under paragraph 242 of the Report of the Working Party on the Accession of China to the World Trade Organization (Accession Agreement), the United States requested consultations with the Government of the People's Republic of China with respect to imports of Chinese origin socks in Category 332/432 and 632 part. Through a letter published on November 1, 2004, the Chairman of CITA directed the Commission, U.S. Customs and Border Protection, to establish a twelve-month limit on these products, beginning on October 29, 2004, and extending through October 28, 2005 (69 FR 63371). At the same time, the Chairman of CITA directed the Commissioner to require that shipments of these products be accompanied by an export visa and Electronic Visa Information System (ELVIS) transmission issued by the Government of the People's Republic of China; this requirement did not apply to shipments exported prior to November 28, 2004. The Government of the People's Republic of China has objected to the requirement that shipments of products in Category 432 and 632 Part be accompanied by an export visa and ELVIS transmission. Therefore, effective on November 24, 2004, the United States is rescinding the visa and ELVIS requirements for products in these categories. However, the quota limit for Category 332/432 and 632 Part remains in effect. Goods in Category 332 shall remain subject to the Group II limit, and will continue to be subject to export visa and ELVIS requirements. CITA will revisit this issue if the situation warrants.

A description of the textile and apparel categories in terms of Harmonized Tariff Schedule of the United States numbers is available in the CORRELATION: Textile and Apparel Category with the Harmonized Tariff Schedule of the United States (see Federal Register notice 69 FR 4926, published on February 2, 2004). Also see 68 FR 65445, published on November 20, 2003.

James C. Leonard III,
Chairman, Committee for the Implementation of Textile Agreements.

The Committee for the Implementation of Textile Agreements

November 18, 2004.

Commissioner,

Bureau of Customs and Border Protection, Washington, DC 20229.

Dear Commissioner: This directive amends, but does not cancel, the directive issued to you on October 28, 2004. Those directives concern the establishment of quota and visa requirements for certain cotton, wool, and man-made fiber socks in Category 332/432 and 632 Part, produced or manufactured in China and exported during the period beginning on October 29, 2004, and extending through October 28, 2005.

Effective on November 24, 2004, you are directed to remove the visa and ELVIS requirements for textile products in Category 432 and 632 part. However, the quota limit for Category 332/432 and 632 Part remains in effect. Goods in Category 332 shall remain subject to the Group II limit, and will continue to be subject to export visa and ELVIS requirements.

The Committee for the Implementation of Textile Agreements has determined that this action falls within the foreign affairs exception of the rulemaking provisions of 5 U.S.C. 553(a)(1).

Sincerely,

James C. Leonard III,

Chairman, Committee for the Implementation of Textile Agreements.

[FR Doc. E4-3305 Filed 11-22-04; 8:45 am]

BILLING CODE 3510-DS-S